DEPARTMENT OF JUSTICE

Office of Justice Programs

[Docket No. OJP (OJP) 1421]

Meeting of the Public Safety Officer Medal of Valor Review Board

AGENCY: Office of Justice Programs (OJP), Justice.

ACTION: Notice of meeting.

SUMMARY: The Department of Justice, Office of Justice Programs, is announcing a meeting of the Public Safety Officer Medal of Valor Review Board.

DATES: Thursday, October 13, 2005, 9 a.m. to 5 p.m., and Friday, October 14, 2005, 9 a.m. to 5 p.m.

ADDRESSES: The meeting will take place at the Sheraton Burlington Hotel and Conference Center, 870 Williston Road, Burlington, Vermont, 05403, telephone: 802-865-6600.

FOR FURTHER INFORMATION CONTACT: Michelle Shaw, Policy Advisor, Bureau of Justice Assistance, Office of Justice Programs, 810 7th Street, NW., Washington, DC 20531, by telephone at (202) 514-9354, or by e-mail at michelle.a.shaw@usdoj.gov.

SUPPLEMENTARY INFORMATION: The President of the United States awards the Public Safety Officer Medal of Valor for valor by a Public Safety Officer. The Public Safety Officer Medal of Valor Review Board is authorized to carry out its advisory function under 42 U.S.C. 15202. The purpose of this meeting is to review applications for the 2005 Medal of Valor Awards and to discuss upcoming activities related thereto.

This meeting will be open to the public and registrations will be accepted on a space available basis. Members of the public who wish to attend the meeting must register at least five (5) days in advance of the meeting by contacting Ms. Shaw. Prior registration will be required in order to attending the meeting. All attendees will be required to sign in at the meeting registration desk. Please bring photo identification and allow extra time prior to the meeting. Anyone requiring special accommodations should contact Ms. Shaw at least five (5) days in advance of the meeting.

Dated: September 20, 2005.
Domingo S. Herraiz,
Director, Bureau of Justice Assistance.

[FR Doc. 05-19095 Filed 9-23-05; 8:45 am]

BILLING CODE 4410-18-P